DEPARTMENT OF VETERANS AFFFAIRS

Voluntary Service National Advisory Committee; Notice of Meeting

The Department of Veterans Affairs gives notice under Public Law 92-463 (Federal Advisory Committee Act) that the annual meeting of the Department of Veterans Affairs Voluntary Service (VAVS) National Advisory Committee (NAC) will be held April 7-9, 2010, at the Hyatt Regency Cincinnati, 151 West Fifth Street, Cincinnati, Ohio. On April 7, the meeting will begin at 8 a.m. and end at 12 noon. On April 8-9, the meeting will begin at 8:30 a.m. and end at 4 p.m. The meeting is open to the public.

The Committee, comprised of sixty national voluntary organizations, advises the Secretary, through the Under Secretary for Health, on the coordination and promotion of volunteer activities within VA health care facilities. The primary purposes of this meeting are to provide for Committee review of volunteer policies and procedures; to accommodate full and open communications between organization representatives and the Voluntary Service Office and field staff; to provide educational opportunities geared towards improving volunteer programs with special emphasis on methods to recruit, retain, place, motivate, and recognize volunteers; and to approve Committee recommendations.

The April 7 session will include a National Executive Committee Meeting, Health Fair, VAVS Representative and Deputy training, and the opening awards dinner (requires prepayment) featuring the keynote address, recognition of the recipients of the American Spirit Awards, VAVS Award for Excellence, and the NAC Volunteer of the Year Awards.

The April 8 business session will include remarks from local officials, the Voluntary Service Report, Veterans Health Administration Update, and remarks by VA officials on suicide prevention, palliative care, medical home and social work service. Educational workshops will be held in the afternoon and focus on respite care, disabled volunteers, cultural transformation, and assisting homeless veterans.

On April 9, the educational workshops will be repeated in the morning and the business session will be held in the afternoon and will include subcommittee reports, a presentation on orientation, an inspirational presentation on perseverance, and closing remarks from the Chairman. The James H. Parke Memorial Scholarship recipient will be honored at the Parke Awards dinner (requires prepayment) to be held at 6 p.m.

No time will be allocated at this meeting for receiving oral presentations from the public. However, interested persons may either attend or file statements with the Committee. Written statements may be filed either before the meeting or within 10 days after the meeting and addressed to Ms. Laura B. Balun, Director, Voluntary Service Office (10C2), Department of Veterans Affairs, 810 Vermont Avenue, NW., Washington, DC 20420. Individuals interested in attending are encouraged to contact Ms. Balun at (202) 461-7300.

Dated: January 25, 2010.
By Direction of the Secretary.
Vivian Drake,
Acting Committee Management Officer.

[FR Doc. 2010-1736 Filed 1-27-10; 8:45 am]

BILLING CODE P